DEPARTMENT OF HEALTH AND HUMAN SERVICES

Centers for Disease Control and Prevention

Disease, Disability, and Injury Prevention and Control

Special Emphasis Panel (SEP): Epidemiological Studies of Reproductive and Developmental Outcomes in Denmark: Supplement on Congenital Cytomegalovirus Infection among Children with Hearing Loss, Program Announcement Number (PA) DD 07-001

In accordance with Section 10(a)(2) of the Federal Advisory Committee Act (Pub. L. 92-463), the Centers for Disease Control and Prevention (CDC) announces the aforementioned meeting.

Time and Date: 8 a.m.-5 p.m., July 2, 2008 (Closed).

Place: Teleconference.

Status: The meeting will be closed to the public in accordance with provisions set forth in Section 552b(c)(4) and (6), Title 5 U.S.C., and the Determination of the Director, Management Analysis and Services Office, CDC, pursuant to Public Law 92-463.

Matters To Be Discussed: The meeting will include the review, discussion, and evaluation of applications received in response to “Epidemiological Studies of Reproductive and Developmental Outcomes in Denmark: Supplement on Congenital Cytomegalovirus Infection among Children with Hearing Loss, PA DD 07-001.”

Contact Person for More Information: K. Ann Berry, Senior Scientist, CDC, 1600 Clifton Road, NE., Mailstop E20, Atlanta, GA 30333, Telephone (404) 498-2503.

The Director, Management Analysis and Services Office, has been delegated the authority to sign Federal Register notices pertaining to announcements of meetings and other committee management activities, for both CDC and the Agency for Toxic Substances and Disease Registry.

Dated: June 11, 2008.
Elaine L. Baker,
Director, Management Analysis and Services Office, Centers for Disease Control and Prevention.

[FR Doc. E8-13664 Filed 6-17-08; 8:45 am]

BILLING CODE 4163-18-P